DEPARTMENT OF JUSTICE

Office of Justice Programs

[OMB Number 1121-0142]

Agency Information Collection Activities; Proposed Collection; Comments Requested: Extension of a Currently Approved Collection; Victims of Crime Act, Crime Victim Assistance Grant Program Performance Report

ACTION: 30-Day Notice of Information Collection Under Review.

The Department of Justice (DOJ), Office of Justice Programs (OJP), Office for Victims of Crime (OVC) will be submitting the following information collection request to the Office of Management and Budget (OMB) for review and approval in accordance with the Paperwork Reduction Act of 1995. The proposed information collection is published to obtain comments from the public and affected agencies. This proposed information collection was previously published in the Federal Register Volume 77, Number 20, page 4833, on January 31, 2012, allowing for a 60 day comment period.

The purpose of this notice is to allow for an additional 30 days for public comment until March 15, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this Information Collection

(1) Type of Information Collection: Extension of a currently approved collection.

(2) Title of the Form/Collection: Victims of Crime Act, Crime Victim Assistance Grant Program, Subgrant Award Report.

(3) Agency form number, if any, and the applicable component of the Department sponsoring the collection: The form number is 1121-0142. Office for Victims of Crime, Office of Justice Programs, U.S. Department of Justice is sponsoring the collection.

(4) Affected public who will be asked or required to respond, as well as a brief abstract: Primary: State government. Other: None. The VOCA, Crime Victim Assistance Grant Program, Subgrant Award Report is a required submission by state grantees, within 90 days of their awarding a subgrant for the provision of crime victim services. VOCA and the Program Guidelines require each state victim assistance office to report to OVC on the impact of the Federal funds, to certify compliance with the eligibility requirements of VOCA, and to provide a summary of proposed activities. This information will be aggregated and serve as supporting documentation for the Director's biennial report to the President and to the Congress on the effectiveness of the activities supported by these grants. This request is for an extension of a currently approved reporting instrument, with no revisions.

(5) An estimate of the total number of respondents and the amount of time estimated for an average respondent to respond/reply: The number of VOCA-funded victim assistance programs varies widely from State to State. A review of information currently available to this Office on the number of active victim assistance programs in 15 states selected for variance in size and population revealed that a State would be responsible for entering subgrant data for as many as 499 programs (California) to as few as 9 programs (District of Columbia).

The estimated time to enter a record via the Grants Management System is three minutes (.05 hour). Therefore, the estimated clerical time can range from 27 minutes to 25 hours, based on the number of records that are entered. It would take 265 hours to enter 5,300 responses electronically [5,300 × .05 hour].

(6) An estimate of the total public burden (in hours) associated with the collection: The current estimated burden is 265 (5,300 responses × .05 hour per response = 265 hours). There is no increase in the annual recordkeeping and reporting burden.

If additional information is required contact: Jerri Murray, Department Clearance Officer, United States Department of Justice, Justice Management Division, Policy and Planning Staff, Two Constitution Square, 145 N Street, NE., Room 2E-508, Washington, DC 20530

Jerri Murray,
Department Clearance Officer, PRA, U.S. Department of Justice.

[FR Doc. 2012-3370 Filed 2-13-12; 8:45 am]

BILLING CODE 4410-18-P